DEPARTMENT OF ENERGY

Federal Energy Regulatory Commission

[Docket No. RP02-13-002]

Portland Natural Gas Transmission System; Notice of Compliance Filing

April 2, 2002.

Take notice that on March 29, 2002, Portland Natural Gas Transmission System (PNGTS) tendered for filing to its FERC Gas Tariff, Original Volume No. 1, Substitute First Revised Sheet No. 100, to become effective on April 1, 2002.

PNGTS states that the purpose its filing is to place into effect previously suspended rates at the end of the maximum five-month suspension period, i.e., effective April 1, 2002, in accordance with Section 4(e) of the Natural Gas Act and the Commission's order issued on October 31, 2001 in this proceeding. The Commission's October 31, 2001 order suspended PNGTS's proposed rates filed October 1, 2001 for the maximum five-month statutory period to be effective April 1, 2002, subject to refund, and upon motion by PNGTS. PNGTS's rate change is described in detail in its October 1, 2001 filing, which was previously filed with the Commission, served on all customers and affected state commissions, and is available for public inspection at the Commission.

PNGTS states that the proposed rates to be effective on April 1, 2002 have been adjusted to reflect the elimination of facilities not in service at the end of the suspension period. PNGTS further states that there have been no intervening Commission orders requiring any other changes to the proposed rates.

PNGTS states that copies of this filing are being served on all jurisdictional customers, applicable state commissions, and participants in Docket No. RP02-13-000.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-8410 Filed 4-5-02; 8:45 am]

BILLING CODE 6717-01-P